NUCLEAR REGULATORY COMMISSION

[Docket No. 50-305; NRC-2013-0056]

Dominion Energy Kewaunee, Inc., Kewaunee Power Station Post-Shutdown Decommissioning Activities Report

AGENCY: Nuclear Regulatory Commission.

ACTION: Notice of public meeting and availability of report.

SUMMARY: The U.S. Nuclear Regulatory Commission (NRC) will conduct a meeting to discuss and accept public comments on the Kewaunee Power Station (KPS) Post-Shutdown Decommissioning Activities Report (PSDAR), Revision 0, on Wednesday, April 24, 2013, at 7:00 p.m., DST, in a meeting room at the Kewaunee City Council Chambers, City of Kewaunee offices, 401 Fifth Street, Kewaunee, WI 54216.

FOR FURTHER INFORMATION CONTACT: Dr. Karl Feintuch, Office of Nuclear Reactor Regulation, U.S. Nuclear Regulatory Commission, Washington, DC 20555-0001; telephone: 301- 415-3079 or email: karl.feintuch@nrc.gov.

Background

Also pursuant to section 50.82(a)(4)(ii) of Title 10 of the Code of Federal Regulations (10 CFR), the NRC provides notice of its receipt on February 28, 2013, of the signed original PSDAR dated February 26, 2013.

Kewaunee Power Station began commercial operation in June 1974. On February 25, 2013, Dominion Energy Kewaunee, LLC (DEK, the licensee) provided to the NRC its “certification of permanent cessation of operations” (Cert1) consistent with the requirements of 10 CFR Part 50.4(b)(8) and as described in 10 CFR 50.82(a)(1)(i). Cert1 submitted by DEK stated that the date on which operations will cease at KPS is May 7, 2013. Thereafter, all fuel will be permanently removed from the reactor vessel and placed in the spent fuel pool.

Upon completion of the permanent removal of fuel from the reactor vessel, DEK will have met the requirements to submit written certification of permanent fuel removal (Cert2) consistent with the requirements of 10 CFR 50.4(b)(9) and as described in 10 CFR 50.82(a)(1)(ii).

Cert1 may be viewed in the NRC's Agencywide Documents Access and Management System (ADAMS) Accession No. ML13058A065. In a prior communication on November 2, 2012 (ADAMS Accession No. ML12312A018), DEK had notified the NRC of its intention to permanently cease power operations at KPS pending completion of a grid stability review by the Midwest Independent Transmission System Operator, Inc.

Upon docketing of Cert1 and Cert2, pursuant to 10 CFR 50.82(a)(2), the 10 CFR Part 50 renewed facility operating license for KPS will no longer authorize operation of the reactor or emplacement or retention of fuel in the reactor vessel. Also, pursuant to 10 CFR 50.51, “Continuation of license,” Subpart (b), the facility license remains in effect until the NRC notifies the licensee that the license has been terminated.

Further Information

The PSDAR, Revision 0, is available for public viewing at the NRC's Public Document Room (PDR) or electronically through NRC ADAMS at Accession No. ML13063A248. Documents may be examined, and/or copied for a fee, at the PDR, located at One White Flint North, 11555 Rockville Pike (first floor), Rockville, Maryland 20852.

Publicly available records will be accessible electronically from the ADAMS Public Library component on the NRC Web site, http://www.nrc.gov (the Public Electronic Reading Room). Persons who do not have access to ADAMS or who encounter problems in accessing the documents located in ADAMS should contact the NRC PDR Reference staff by telephone at 1-(800) 397-4209, or (301) 415-4737, or by email at pdr.resource@nrc.gov.

Dated at Rockville, Maryland, this 21st day of March 2013.
For the U.S. Nuclear Regulatory Commission
Karl D. Feintuch,
Acting Chief, Plant Licensing Branch III-1, Division of Operator Reactor Licensing, Office of Nuclear Reactor Regulation.

[FR Doc. 2013-07470 Filed 3-29-13; 8:45 am]

BILLING CODE 7590-01-P